ENVIRONMENTAL PROTECTION AGENCY

[FRL-9967-00-OA]

Notification of a Public Meeting of the Science Advisory Board Chemical Assessment Advisory Committee

AGENCY: Environmental Protection Agency (EPA).

ACTION: Notice.

SUMMARY: The Environmental Protection Agency (EPA or Agency) Science Advisory Board (SAB) Staff Office announces a public meeting of the SAB Chemical Assessment Advisory Committee (CAAC) to receive a briefing from the EPA's National Center for Environmental Assessment (NCEA) on the content and presentation of assessment products to be released at early stages of development of draft assessments. These products represent an update to the materials released for the purposes of early stakeholder engagement, as outlined in the “IRIS enhancements” (2013). These materials are expected to add transparency to draft assessment development, while simultaneously increasing throughput and responsiveness to Agency needs.

DATES: The public face-to-face meeting will be held from Wednesday, September 27, 2017 through Thursday, September 28, 2017, from 9:00 a.m. to 5:00 p.m., (Eastern time) daily.

ADDRESSES: The public meeting will be held at Residence Inn Arlington Capital View, 2850 S. Potomac Ave., Arlington, VA 22202.

FOR FURTHER INFORMATION CONTACT: Any member of the public wishing to obtain further information concerning the meeting may contact Dr. Suhair Shallal, Designated Federal Officer (DFO), SAB Staff Office, by telephone at (202) 564-0257 or shallal.suhair@epa.gov. General information concerning the EPA Science Advisory Board, as well as any updates concerning the meeting announced in this notice, can be found at the EPA SAB Web site at http://www.epa.gov/sab.

SUPPLEMENTARY INFORMATION:

Background: The SAB was established pursuant to the Environmental Research, Development, and Demonstration Authorization Act (ERDAA) codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB CAAC will hold a public meeting to receive a briefing from the EPA's National Center for Environmental Assessment (NCEA) on the content and presentation of assessment products to be released at early stages of draft development. These products represent an update to the materials released for the purposes of early stakeholder engagement, as outlined in the “IRIS enhancements” (2013). These materials are expected to add transparency to draft assessment development, while simultaneously increasing throughput and responsiveness to Agency needs. The CAAC will provide advice to the Administrator through the chartered SAB.

The NCEA continues to incorporate improvements in response to recommendations from the National Research Council and the SAB to (1) improve the scientific integrity of assessments; (2) improve the productivity of the program; and (3) increase transparency so issues are identified early in the process. Information about this program is available at: https://www.epa.gov/iris.

Availability of Meeting Materials: Additional background on this SAB activity, the meeting agenda, and other materials for the meeting will be posted on the SAB Web site at http://www.epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the meeting materials or the group conducting this SAB activity. Input from the public to the SAB will have the most impact if it consists of comments that provide specific scientific or technical information or analysis for SAB committees and panels to consider or if it relates to the clarity or accuracy of the technical information. Members of the public wishing to provide comment should contact the DFO directly.

Oral Statements: In general, individuals or groups requesting an oral presentation at a public meeting will be limited to five minutes per speaker. Interested parties wishing to provide comments should contact Dr. Suhair Shallal, DFO (preferably via email) at the contact information noted above by September 20, 2017, to be placed on the list of public speakers for the meeting.

Written Statements: Written statements will be accepted throughout the advisory process; however, for timely consideration by Committee members, statements should be supplied to the DFO (preferably via email) at the contact information noted above by September 20, 2017. It is the SAB Staff Office general policy to post written comments on the Web page for the advisory meeting. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Suhair Shallal at (202) 564-0257 or at shallal.suhair@epa.gov. To request accommodation of a disability, please contact Dr. Shallal preferably at least ten days prior to the meeting, to give EPA as much time as possible to process your request.

Dated: August 21, 2017.
Christopher Zarba,
Director, EPA Science Advisory Board Staff Office.

[FR Doc. 2017-18764 Filed 9-5-17; 8:45 am]

BILLING CODE 6560-50-P